NATIONAL AERONAUTICS AND SPACE ADMINISTRATION

[Notice (02-093)]

NASA Advisory Council, Pioneer Revolutionary Technology Subcommittee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Aerospace Technology Advisory Committee (ATAC), Pioneer Revolutionary Technology Subcommittee (PRTS).

DATES: Wednesday, September 4, 2002, 8:30 a.m. to 5:30 p.m.; and Thursday, September 5, 2002, 8:30 a.m. to 12:30 p.m.

ADDRESSES: National Aeronautics and Space Administration, Room 6H46, 300 E Street, SW, Washington, DC 20546.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

—Quality Review Process

—General Description of Program

—Actions from ATAC and NASA's Response

—Technology Investment Design Tool

—University Research Enterprise Technology Initiatives

It is imperative that the meeting be held on these dates to accommodate the scheduling priorities of the key participants.

Dated: August 1, 2002.
Sylvia K. Kraemer,
Advisory Committee Management Officer, National Aeronautics and Space Administration.

[FR Doc. 02-20215 Filed 8-8-02; 8:45 am]

BILLING CODE 7510-01-P